DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA), Commerce.

Title: Fisheries Certificate of Origin.

OMB Control Number: 0648-0335.

Form Number(s): NOAA Form 370.

Type of Request: Regular submission, extension of a current information collection.

Number of Respondents: 530.

Average Hours per Response: 25 minutes.

Burden Hours: 5,417.

Needs and Uses: This request is for an extension of a current information collection. The information required by the International Dolphin Conservation Program Act, amendment to the Marine Mammal Protection Act, is needed to: (1) Document the dolphin-safe status of tuna import shipments; (2) verify that import shipments of fish were not harvested by large-scale, high seas driftnets; and (3) verify that tuna was not harvested by an embargoed nation or one that is otherwise prohibited from exporting tuna to the United States. Forms are submitted by importers and processors.

Affected Public: Business or other for-profit organizations.

Frequency: Submission is required for each shipment of frozen and/or processed tuna and tuna products that enters the United States.

Respondent's Obligation: Importing respondents are required to submit the form electronically to U.S. Customs and Border Protection before or at the time of importation via the Automated Commercial Environment. Domestic processors submit the forms monthly via email.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-11640 Filed 6-4-19; 8:45 am]

BILLING CODE 3510-22-P